DEPARTMENT OF HEALTH AND HUMAN SERVICES

National Institutes of Health

National Cancer Institute; Amended Notice of Meeting

Notice is hereby given of a change in the meeting of the National Cancer Institute Special Emphasis Panel, October 30, 2012, 8:00 a.m. to October 30, 2012, 5:00 p.m., National Institutes of Health, 6120 Executive Blvd., Rockville, MD 20852 which was published in the Federal Register on September 12, 2012, 77 FR 56215.

This notice is being amended to change the location, date and time to 6116 Executive Boulevard, Room 707, Rockville, MD 20852, November 30, 2012, 9:00 a.m.-4:00 p.m. Additionally the meeting is being held as a teleconference. The meeting is closed to the public.

Melanie J. Gray,
Program Analyst, Office of Federal Advisory Committee Policy.

[FR Doc. 2012-28369 Filed 11-21-12; 8:45 am]

BILLING CODE 4140-01-P